DEPARTMENT OF HEALTH AND HUMAN SERVICES

National Toxicology Program (NTP); Center for the Evaluation of Risks to Human Reproduction (CERHR); Announcement of the Availability of the Expert Panel Report on Styrene; Request for Public Comment

AGENCY: National Institute for Environmental Health Sciences (NIEHS); National Institutes of Health (NIH).

ACTION: Announcement of report availability and request for comment.

SUMMARY: The CERHR announces the availability of the expert panel report on styrene on July 18, 2005 from the CERHR Web site (http://cerhr.niehs.nih.gov) or in print from the CERHR (see ADDRESSES below). The expert panel report is an evaluation of the reproductive and developmental toxicity of styrene conducted by a 13-member expert panel composed of scientists from the federal government, universities, and private organizations. The CERHR invites the submission of public comments on this expert panel report (see SUPPLEMENTARY INFORMATION below). The CERHR previously solicited public comment on the draft version of this expert panel report (Federal Register Vol. 70, No. 45 pp. 11680-11681). Public deliberations by the panel took place on June 1-3, 2005, at the Holiday Inn Old Town Select Alexandria, Virginia to review and revise the draft expert panel report and reach conclusions regarding whether exposure to styrene is a hazard to human development or reproduction. The expert panel also identified data gaps and research needs.

DATES: The final expert panel report on styrene will be available for public comment on July 18, 2005. Written public comments on this report should be received by September 1, 2005.

ADDRESSES: Comments on the expert panel report and any other correspondence should be sent to Dr. Michael D. Shelby, CERHR Director, NIEHS, P.O. Box 12233, MD EC-32, Research Triangle Park, NC 27709 (mail), (919) 316-4511 (fax), or shelby@niehs.nih.gov (e-mail). Courier address: CERHR, 79 T.W. Alexander Drive, Building 4401, Room 103, Research Triangle Park, NC 27709.

SUPPLEMENTARY INFORMATION:

Background

The National Toxicology Program (NTP) Center for the Evaluation of Risks to Human Reproduction (CERHR) convened an expert panel on June 1-3, 2005. The purpose of this meeting was to evaluate the scientific evidence regarding the potential reproductive and/or developmental toxicities associated with exposure to styrene. Styrene (ethenylbenzene; CAS RN: 100-42-5) is a high production volume chemical used in the production of polystyrene resins and as a co-polymer with acrylonitrile and 1,3-butadiene. Styrene is found in items such as foam cups, dental fillings, matrices for ion exchange filters, construction materials, and boats. It is also used in protective coatings, reinforced glass fiber, agricultural products, and as a food additive. The public can be exposed to styrene by ingesting food or drink that has been in contact with styrene polymers or through inhalation of polluted air and cigarette smoke. CERHR selected styrene for expert panel evaluation because of: (1) Public concern about styrene exposure and (2) recently available exposure studies.

Following receipt of public comments on the styrene final expert panel report, CERHR staff will prepare an NTP-CERHR monograph on this chemical. NTP-CERHR monographs are divided into four major sections: (1) The NTP Brief which provides the NTP's interpretation of the potential for the chemical to cause adverse reproductive and/or developmental effects in exposed humans, (2) a roster of expert panel members, (3) the final expert panel report, and (4) any public comments received on that report. The NTP Brief is based on the expert panel report, public comments on that report, and any new information that became available after the expert panel meeting.

Request for Comments

The CERHR invites written public comments on the styrene expert panel report. Written comments should be sent to Dr. Michael Shelby at the address provided above. Persons submitting written comments are asked to include their name and contact information (affiliation, mailing address, telephone and facsimile numbers, e-mail, and sponsoring organization, if any). Any comments received will be posted on the CERHR Web site and be included in the NTP CERHR monograph on this chemical. All public comments will be considered by the NTP during preparation of the NTP Brief described above under “Background.”

Background Information on the CERHR

The NTP established the NTP CERHR in June 1998 [Federal Register, December 14, 1998 (Vol. 63, No. 239, pp. 68782)]. The CERHR is a publicly accessible resource for information about adverse reproductive and/or developmental health effects associated with exposure to environmental and/or occupational exposures. Expert panels conduct scientific evaluations of agents selected by the CERHR in public forums.

The CERHR invites the nomination of agents for review or scientists for its expert registry. Information about CERHR and the nomination process can be obtained from its Web site (http://cerhr.niehs.nih.gov) or by contacting Dr. Shelby (see ADDRESSES above). The CERHR selects chemicals for evaluation based upon several factors including production volume, potential for human exposure from use and occurrence in the environment, extent of public concern, and extent of data from reproductive and developmental toxicity studies.

CERHR follows a formal, multi-step process for review and evaluation of selected chemicals. The formal evaluation process was published in the Federal Register notice July 16, 2001 (Vol. 66, No. 136, pp 37047-37048) and is available on the CERHR Web site under “About CERHR” or in printed copy from the CERHR.

Dated: July 6, 2005.
David A. Schwartz,
Director, National Institute of Environmental Health Sciences and the National Toxicology Program.

[FR Doc. 05-14425 Filed 7-20-05; 8:45 am]

BILLING CODE 4140-01-P